DEPARTMENT OF ENERGY

Federal Energy Regulatory Commission

[Docket No. CP08-4-000]

Southern Star Central Gas Pipeline, Inc.; Notice of Intent To Prepare An Environmental Assessment for the Proposed South Welda Storage Field Expansion Project and Request for Comments On Environmental Issues

November 2, 2007.

The staff of the Federal Energy Regulatory Commission (FERC or Commission) will prepare an environmental assessment (EA) that will discuss the environmental impacts of the proposed South Welda Storage Field Expansion Project involving construction and operation of natural gas facilities by Southern Star Central Gas Pipeline, Inc. (Southern Star) in Anderson County, Kansas. The EA will be used by the Commission in its decision-making process to determine whether the project is in the public convenience and necessity.

This notice announces the opening of the scoping process the Commission will use to gather input from the public and interested agencies on the project. Your input will help determine which issues need to be evaluated in the EA. Please note that the scoping period will close on December 3, 2007. Details on how to submit comments are provided in the Public Participation section of this notice.

If you are a landowner receiving this notice, you may be contacted by a pipeline company representative about the acquisition of an easement to construct, operate, and maintain the proposed facilities. Southern Star would seek to negotiate a mutually acceptable agreement. However, if the project is approved by the Commission, that approval conveys with it the right of eminent domain. Therefore, if easement negotiations fail to produce an agreement, Southern Star could initiate condemnation proceedings in accordance with Kansas state law.

This notice is being sent to affected landowners; federal, state, and local government representatives and agencies; elected officials; Native American tribes; other interested parties; and local libraries and newspapers. State and local government representatives are asked to notify their constituents of this proposed project and to encourage them to comment on their areas of concern.

A fact sheet prepared by the FERC entitled “An Interstate Natural Gas Facility On My Land? What Do I Need To Know?” addresses a number of typically asked questions, including the use of eminent domain and how to participate in the Commission's proceedings. It is available for viewing on the FERC Internet Web site (www.ferc.gov).

Summary of the Proposed Project

Southern Star proposes to expand the existing certificated boundary and buffer zone of its South Welda Storage Field in Anderson County, Kansas by about 560 acres. Southern Star states that the additional acreage is necessary to protect the field's integrity (based on conclusions that storage gas has moved beyond its existing storage boundary) and to establish a buffer zone to protect the field from future encroachment by third-party exploration or operators. The additional acreage would also prevent possible venting of the storage gas by oil operators. Southern Star has identified 11 wells that it would either connect to the pressure recovery system, convert to pressure observation, or plug. In addition, Southern Star would install an additional natural gas compressor (660 horsepower) at its existing South Welda Booster Station. This would require an expansion of the station of 40 feet by 175 feet.

Southern Star is also requesting authorization to increase the maximum certificated wellhead shut-in pressure from 430 to 433 pounds per square inch gauge. This pressure would align with the same shut-in pressure requested by Southern Star for the North Welda Storage Field in Docket No. CP07-89-000, which is currently under Commission review. Certain other recovery and recycling facilities (e.g., small diameter pipeline lateral segments, oil/gas separators, and collection tanks) will be constructed under Southern Star's existing blanket certificate (Docket No. CP82-479-000).

The certificated South Welda Storage Field currently operates up to a maximum storage capacity of 18.3 billion cubic feet. Southern Star states that the proposed project and blanket certificate work would not change any of the current operational parameters or capabilities of the South Welda Storage Field.

The general location of the proposed storage field expansion is shown in Appendix 1. ¹

¹ The appendices referenced in this notice are not being printing in the Federal Register. Copies are available on the Commission's Internet website (www.ferc.gov) at the “eLibrary” link or from the Commission's Public Reference Room at (202) 502-8371. For instructions on connecting to eLibrary, refer to the “Additional Information” section at the end of this notice. Copies of the appendices were sent to all those receiving this notice in the mail. Requests for detailed maps of the well locations and other proposed facilities should be made directly to Southern Star.

Land Requirements for Construction

The boundary of the South Welda Storage Field would be expanded by about 560 acres. Construction of the proposed facilities (i.e., well sites, separator sites, the compressor unit, temporary workspace, and use of existing access roads) would require about 21.9 acres of land. Of this acreage, about 20.6 acres would be temporarily impacted and 1.3 acres would be permanently affected.

The EA Process

We ² are preparing this EA to comply with the National Environmental Policy Act (NEPA) which requires the Commission to take into account the environmental impact that could result if it authorizes Southern Star's proposal. By this notice, we are also asking federal, state, and local agencies with jurisdiction and/or special expertise with respect to environmental issues to formally cooperate with us in the preparation of the EA. Agencies that would like to request cooperating status should follow the instructions for filing comments provided below.

² “We,” “us,” and “our” refer to the environmental staff of the FERC's Office of Energy Projects.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA.

The EA will discuss impacts that could occur as a result of the construction and operation of the proposed project under these general headings:

• Geology and soils

• groundwater resources

• land use

• cultural resources

• vegetation and wildlife (including sensitive species)

• air quality and noise

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal including alternative berthing alignments, and measures to avoid or lessen environmental impact. The more specific your comments, the more useful they will be. Please carefully follow these instructions to ensure that your comments are received in time and properly recorded:

• Send an original and two copies of your letter to: Kimberley D. Bose, Secretary, Federal Energy Regulatory Commission, 888 First St. NE., Room 1A, Washington, DC 20426.

• Label one copy of the comments for the attention of Gas Branch 1.

• Reference Docket No. CP08-4-000.

• Mail your comments so that they will be received in Washington, DC on or before December 3, 2007.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

We may mail the EA for comment. If you are interested in receiving it, please return the Information Request (Appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2) ³. Only intervenors have the right to seek rehearing of the Commission's decision.

³ Interventions may also be filed electronically via the Internet in lieu of paper. See previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information. You can also request additional information by calling Southern Star at 270-852-4654.

Kimberly D. Bose,
Secretary.

[FR Doc. E7-22023 Filed 11-8-07; 8:45 am]

BILLING CODE 6717-01-P